DEPARTMENT OF TRANSPORTATION

Federal Aviation Administration

14 CFR Part 39

[Docket No. FAA-2007-27747; Directorate Identifier 2007-CE-030-AD]

RIN 2120-AA64

Airworthiness Directives; Cessna Aircraft Company Models 150 and 152 Airplanes

AGENCY: Federal Aviation Administration (FAA), Department of Transportation (DOT).

ACTION: Notice of proposed rulemaking (NPRM).

SUMMARY: We propose to adopt a new airworthiness directive (AD) for certain Cessna Aircraft Company (Cessna) Models 150 and 152 airplanes. This proposed AD would require replacing the rudder stop, rudder stop bumper, and attachment hardware with a new rudder stop modification kit. This proposed AD also requires replacing the safety wire with jamnuts. This proposed AD results from two accidents where the rudder was found in the over-travel position with the stop plate hooked over the stop bolt heads. We are proposing this AD to prevent the rudder from traveling past the normal travel limit and becoming jammed in the over-travel position. This condition could result in loss of control.

DATES: We must receive comments on this proposed AD by June 15, 2007.

ADDRESSES: Use one of the following addresses to comment on this proposed AD:

• DOT Docket Web site: Go to http://dms.dot.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

• Federal eRulemaking Portal: Go to http://www.regulations.gov. Follow the instructions for submitting comments.

For service information identified in this proposed AD, contact Cessna Aircraft Company, Product Support, P.O. Box 7706, Wichita, KS 67277; telephone: (316) 517-5800; fax: (316) 942-9006.

FOR FURTHER INFORMATION CONTACT: Gary Park, Aerospace Engineer, 1801 Airport Road, Room 100, Wichita, Kansas 67209; telephone: (316) 946-4123; fax: (316) 946-4107.

SUPPLEMENTARY INFORMATION

Comments Invited

We invite you to send any written relevant data, views, or arguments regarding this proposed AD. Send your comments to an address listed under the ADDRESSES section. Include the docket number, “FAA-2007-27747; Directorate Identifier 2007-CE-030-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

This AD results from two spin accidents involving Cessna Model 152 airplanes where the rudder was found in the over-travel position with the stop plate hooked over the stop bolt heads.

In the first accident, which occurred in Canada, a flight instructor and student pilot were unable to recover after performing a spin maneuver. When the airplane was inspected, the rudder was found jammed.

In the second accident the rudder bumper was found to be installed incorrectly, which resulted in a rudder jam during an attempted spin recovery.

Upon recovery of the airplanes after the accidents, both accident airplanes had their rudder stop plates hooked over the stop bolts. After examining the accident airplanes and other Cessna Models 150 and 152 airplanes, accident investigators determined that, under certain conditions, it is possible to jam the rudder past its normal travel limit. The jam occurs when the stop plate is forced aft of the stop bolt head. The forward edge of the stop plate can then become lodged under the head of the stop bolt causing the rudder to jam in this over-travel position. Recovery from a spin may not be possible with the rudder jammed beyond the normal rudder travel stop limits.

This condition, if not corrected, could result in loss of control.

Relevant Service Information

We have reviewed the following Cessna Aircraft Company service information, dated January 22, 2001:

• Service Bulletin SEB01-1;

• Service Kit SK152-25; and

• Service Kit SK152-24.

The service information describes procedures for replacing the rudder stop, rudder stop bumper, and attachment hardware with a new rudder stop modification kit. The service information also describes the procedure for replacing the safety wire with jamnuts.

FAA's Determination and Requirements of the Proposed AD

We are proposing this AD because we evaluated all information and determined the unsafe condition described previously is likely to exist or develop on other products of the same type design. This proposed AD would require replacing the rudder stop, rudder stop bumper, and attachment hardware with a new rudder stop modification kit. This proposed AD also requires replacing the safety wire with jamnuts.

Costs of Compliance

We estimate that this proposed AD would affect 18,670 airplanes in the U.S. registry.

We estimate the following costs to do the proposed modification:

Labor cost | Parts cost | Total cost per airplane | Total cost on U.S. operators
4 work-hours × $80 per hour = $320 | $60 | $380 | $7,094,600

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company:Docket No. FAA-2007-27747; Directorate Identifier 2007-CE-030-AD.

Comments Due Date

(a) We must receive comments on this airworthiness directive (AD) action by June 15, 2007.

Affected ADs

(b) None.

Applicability

(c) This AD applies to the following airplane models and serial numbers that are certificated in any category:

Models | Serial numbers
(1) 150F | 15061533 through 15064532.
(2) 150G | 15064533 through 15064969 and 15064971 through 15067198.
(3) 150H | 15067199 through 15069308 and 649.
(4) 150J | 15069309 through 15071128.
(5) 150K | 15071129 through 15072003.
(6) 150L | 15072004 through 15075781.
(7) 150M | 15075782 through 15079405.
(8) A150K | A1500001 through A1500226.
(9) A150L | A1500227 through A1500432 and A1500434 through A1500523.
(10) A150M | A1500524 through A1500734 and 15064970.
(11) A-150L | A-1501001 through A-1501039.
(12) A-A150L | A-A1500001 through A-A1500009.
(13) F150F | F150-0001 through F150-0067.
(14) F150G | F150-0068 through F150-0219.
(15) F150H | F150-0220 through F150-0389.
(16) F150J | F150-0390 through F150-0529.
(17) F150K | F15000530 through F15000658.
(18) F150L | F15000659 through F15001143.
(19) F150M | F15001144 through F15001428.
(20) FA150K | FA1500001 through FA1500081.
(21) FA150L | FA1500082 through FA1500261.
(22) FA150M | FA1500262 through FA1500336.
(23) 152 | 15279406 through 15286033.
(24) A152 | A1520735 through A1521049, A1500433, and 681.
(25) F152 | F15201429 through F15201980.
(26) FA152 | FA1520337 through FA1520425.

Unsafe Condition

(d) This AD results from two accidents where the rudder was found in the over-travel position with the stop plate hooked over the stop bolt heads. We are issuing this AD to prevent the rudder from traveling past the normal travel limit and becoming jammed in the over-travel position. This condition could result in loss of control.

Compliance

(e) To address this problem, you must do the following, unless already done:

Action | Compliance | Procedures
(1) For airplanes with a forged bulkhead: Replace the rudder stop, rudder stop bumper, and attachment hardware with the new rudder stop modification kit SK152-25; and replace safety wire with jamnuts | Within the next 100 hours time-in-service (TIS) or 12 months after the effective date of this AD, whichever occurs first | Follow Cessna Aircraft Company Service Bulletin SEB01-1, and Cessna Aircraft Company Service Kit SK152-25, both dated January 22, 2001.
(2) For airplanes with a sheet metal bulkhead: Replace the rudder stop, rudder stop bumper, and attachment hardware with the new rudder stop modification kit SK152-24; and replace safety wire with jamnuts | Within the next 100 hours TIS or 12 months after the effective date of this AD, whichever occurs first | Follow Cessna Aircraft Company Service Bulletin SEB01-1, and Cessna Aircraft Company Service Kit SK152-24, both dated January 22, 2001.

Alternative Methods of Compliance (AMOCs)

(f) The Manager, FAA, ATTN: Gary Park, Aerospace Engineer, 1801 Airport Road, Room 100, Wichita, Kansas 67209; telephone: (316) 946-4123; fax: (316) 946-4107, has the authority to approve AMOCs for this AD, if requested using the procedures found in 14 CFR 39.19. Before using any approved AMOC on any airplane to which the AMOC applies, notify your appropriate principal inspector (PI) in the FAA Flight Standards District Office (FSDO), or lacking a PI, your local FSDO.

Related Information

(g) To get copies of the service information referenced in this AD, contact Cessna Aircraft Company, Product Support, P.O. Box 7706, Wichita, KS 67277; telephone: (316) 517-5800; fax: (316) 942-9006. To view the AD docket, go to the Docket Management Facility; U.S. Department of Transportation, 400 Seventh Street, SW., Nassif Building, Room PL-401, Washington, DC, or on the Internet at http://dms.dot.gov. The docket number is Docket No. FAA-2007-27747; Directorate Identifier 2007-CE-030-AD.

Issued in Kansas City, Missouri, on April 10, 2007.
Kim Smith,
Manager, Small Airplane Directorate, Aircraft Certification Service.

[FR Doc. E7-7180 Filed 4-13-07; 8:45 am]

BILLING CODE 4910-13-P